DEPARTMENT OF TRANSPORTATION

Federal Aviation Administration

14 CFR Part 39

[Docket No. FAA-2024-0220; Project Identifier MCAI-2023-00760-T]

RIN 2120-AA64

Airworthiness Directives; Saab AB, Support and Services (Formerly Known as Saab AB, Saab Aeronautics) Airplanes

AGENCY: Federal Aviation Administration (FAA), DOT.

ACTION: Notice of proposed rulemaking (NPRM).

SUMMARY: The FAA proposes to remove Airworthiness Directive (AD) 2023-13-07, which applies to certain Saab AB, Support and Services Model SAAB 340B airplanes. AD 2023-13-07 requires amending the applicable airplane flight manual (AFM) by incorporating a temporary revision (TR) to reduce the maximum take-off weight (MTOW). AD 2023-13-07 is no longer necessary, because of a determination that affected airplanes can be safely operated up to the initially published MTOW. Accordingly, the FAA proposes to remove AD 2023-13-07.

DATES: The FAA must receive comments on this proposed AD by March 25, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0220; or in person at Docket Operations between 9 a.m. and 5 p.m., Monday through Friday, except Federal holidays. The AD docket contains this NPRM, mandatory continuing airworthiness information (MCAI), any comments received, and other information. The street address for Docket Operations is listed above.

Related Service Information:

• For service information identified in this NPRM, contact EASA, Konrad-Adenauer-Ufer 3, 50668 Cologne, Germany; telephone +49 221 8999 000; email ADs@easa.europa.eu; website easa.europa.eu. You may find this material on the EASA website at ad.easa.europa.eu.

• You may view this service information at the FAA, Airworthiness Products Section, Operational Safety Branch, 2200 South 216th St., Des Moines, WA. For information on the availability of this material at the FAA, call 206-231-3195.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Comments Invited

The FAA invites you to send any written relevant data, views, or arguments about this proposal. Send your comments to an address listed under ADDRESSES. Include “Docket No. FAA-2024-0220; Project Identifier MCAI-2023-00760-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Shahram Daneshmandi, Aviation Safety Engineer, FAA, 1600 Stewart Avenue, Suite 410, Westbury, NY 11590; telephone 206-231-3220; email shahram.daneshmandi@faa.gov. Any commentary that the FAA receives that is not specifically designated as CBI will be placed in the public docket for this rulemaking.

Background

The FAA issued AD 2023-13-07, Amendment 39-22492 (88 FR 43052, July 6, 2023) (AD 2023-13-07), for certain Saab AB, Support and Services Model SAAB 340B airplanes. AD 2023-13-07 was prompted by an MCAI originated by the European Union Aviation Safety Agency (EASA), which is the Technical Agent for the Member States of the European Union. EASA issued AD 2023-0121, dated June 13, 2023 (EASA AD 2023-0121) (also referred to as the MCAI), to identify and correct an unsafe condition.

AD 2023-13-07 requires amending the applicable AFM by incorporating a TR to reduce the MTOW. AD 2023-13-07 was prompted by a determination that the affected airplanes must not be operated at a MTOW above 29,000 pounds. The FAA issued AD 2023-13-07 to address the possibility of flight in an uncertified envelope, which could result in reduced structural capability and reduced controllability of the airplane.

Actions Since AD 2023-13-07 Was Issued

Since the FAA issued AD 2023-13-07, EASA issued AD Cancellation Notice 2023-0121-CN, dated December 8, 2023 (EASA AD Cancellation Notice 2023-0121-CN), to cancel EASA AD 2023-0121. EASA AD Cancellation Notice 2023-0121-CN states that since EASA AD 2023-0121 was issued, Saab provided evidence demonstrating that affected airplanes can be operated safely up to the initially published MTOW of 30,000 pounds.

FAA's Conclusions

Upon further consideration, the FAA has determined that AD 2023-13-07 is no longer necessary. Accordingly, this proposed AD would remove AD 2023-13-07. Removal of AD 2023-13-07 would not preclude the FAA from issuing another related action or commit the FAA to any course of action in the future. This proposed AD would remove all actions of AD 2023-13-07. Therefore, this proposed AD would terminate all requirements of AD 2023-13-07.

Related Costs of Compliance

This proposed AD would add no cost. This proposed AD would remove AD 2023-13-07 from 14 CFR part 39; therefore, operators would no longer be required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-13-07, Amendment 39-22492 (88 FR 43052, July 6, 2023), and

b. Adding the following new AD:

Saab AB, Support and Services (formerly known as Saab AB, Saab Aeronautics): Docket No. FAA-2024-0220; Project Identifier MCAI-2023-00760-T.

(a) Comments Due Date

The FAA must receive comments on this airworthiness directive (AD) by March 25, 2024.

(b) Affected ADs

This AD replaces AD 2023-13-07, Amendment 39-22492 (88 FR 43052, July 6, 2023) (AD 2023-13-07).

(c) Applicability

This AD applies to Saab AB, Support and Services (formerly known as Saab AB, Saab Aeronautics) Model SAAB 340B airplanes, certificated in any category, as identified in European Union Aviation Safety Agency (EASA) AD 2023-0121, dated June 13, 2023: airplanes not having SAAB modification 2571 (extended wingtip modification) embodied and having GE Aviation Systems LTD (Dowty Propellers) installed.

(d) Subject

Air Transport Association (ATA) of America Code 51, Standard practices/structures.

(e) Terminating Action

This AD terminates all requirements of AD 2023-13-07.

(f) Related Information

For more information about this AD, contact Shahram Daneshmandi, Aviation Safety Engineer, FAA, 1600 Stewart Avenue, Suite 410, Westbury, NY 11590; telephone 206-231-3220; email shahram.daneshmandi@faa.gov.

(g) Material Incorporated by Reference

None.

Issued on February 1, 2024.
Victor Wicklund,
Deputy Director, Compliance & Airworthiness Division, Aircraft Certification Service.

[FR Doc. 2024-02433 Filed 2-8-24; 8:45 am]

BILLING CODE 4910-13-P